DEPARTMENT OF LABOR

Office of the Secretary; Submission for OMB Review: Comment Request

February 3, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Certification of Funeral Expenses.

OMB Number: 1215-0027.

Form Number: LS-265.

Frequency: On occasion.

Type of Response: Reporting.

Affected Public: Business and other for-profit.

Number of Respondents: 195.

Annual Reponses: 195.

Average Response Time: 15 minutes.

Total Annual Burden Hours: 49.

Total Annualized Capital/Startup Costs: $0.

Total Annual Costs (operating/maintaining systems or purchasing services): $78.00.

Description: The Office of Workers' Compensation Programs administers the Longshore and Harbor Workers' Compensation Act. The Act provides benefits to workers injured in maritime employment on the navigable waters of the United States or in an adjoining area customarily used by an employer in loading, unloading, repairing, or building a vessel. The Act provides that reasonable funeral expenses not to exceed $3,000 shall be paid in all compensable death cases. The LS-265 has been provided for use in submitting the funeral expenses for payment.

Agency: Employment Standards Administration.

Type of Review: Extension of currently approved collection.

Title: (1) Comparability of Current Work to Coal Mine Employment; (2) Coal Mine Employment Affidavit; (3) Affidavit of Deceased Miner's Condition.

OMB Number: 1215-0056.

Form Numbers: CM-913; CM-918; and CM-1093.

Frequency: On occasion.

Type of Response: Reporting.

Affected Public: Individuals or households.

Number of Respondents: 1,500.

Form | Annual responses | Average response time (hours) | Annual burden hours
CM-913 | 1,350 | 0.50 | 675
CM-918 | 75 | 0.17 | 13
CM-1093 | 75 | 0.33 | 25
Total | 1,500 |  | 713

Total Annualized Capital/Startup Costs: $0.

Total Annual Costs (operating/maintaining systems or purchasing services): $600.00.

Description: The Black Lung Benefits Act of 1977, as amended, 30 U.S.C. 901 et seq., provides for the payment of benefits to coal miners who have contracted black lung disease as a result of coal mine employment, and their dependents and survivors. Once a miner has been identified as having performed non-coal mine work subsequent to coal mine employment, the miner or the miner's survivor is asked to complete a CM-913 to compare coal mine work to non-coal mine work. This employment information along with medical information is used to establish whether the miner is totally disabled due to black lung disease caused by coal mine employment. The CM-918 is an affidavit used to gather coal mine employment evidence only when primary evidence, such as pay stubs, W-2 forms, employer and union records, and Social Security records are unavailable or incomplete. The CM-1093 is an affidavit form for recording lay medical evidence, used in survivors' claims in which there is no medical evidence that addresses the miner's pulmonary or respiratory condition.

Agency: Employment Standards Administration.

Type of Review: Revision of currently approved collection.

Title: Roentgenographic Interpretation (CM-933); Roentgenographic Quality Rereading (CM-933b); Medical History and Examination for Coal Mine Workers' Pneumoconiosis (CM-988); Report of Arterial Blood Gas Study (CM-1159); and Report of Ventilatory Study (CM-2907).

OMB Number: 1215-0090.

Form Numbers: CM-933; CM-933b; CM-988; CM-1159; and CM-2907.

Frequency: On occasion.

Type of Response: Reporting.

Affected Public: Business and other for-profit and Not-for-profit institutions.

Number of Respondents: 17,500.

Form | Number of annual responses | Average response time (hours) | Annual burden hours
CM-933 | 3,500 | 0.08 | 292
CM-933b | 3,500 | 0.05 | 175
CM-988 | 3,500 | 0.50 | 1,750
CM-1159 | 3,500 | 0.25 | 875
CM-2907 | 3,500 | 0.33 | 1,167
Total: | 17,500 |  | 4,259

Total Annualized capital/startup costs: $0.

Total Annual Costs (operating/maintaining systems or purchasing services): $0.

Description: The Black Lung Act Benefits Act of 1977 as amended, 30 U.S.C. 901 et seq. and 20 CFR 718.102 set forth criteria for the administration and interpretation of x-rays. When a miner applies for benefits, the Division of Coal Mine Workers' Compensation is required to schedule a series of four diagnostic tests to help establish eligibility for black lung benefits. Each of the diagnostic tests has its own form that sets forth the medical results. The forms are: CM-933, Roentgenographic Interpretation; CM-933b, Roentgenographic Quality Rereading; CM-988, Medical History and Examination for Coal Mine Workers' Pneumoconiosis; CM-1159, Report of Arterial Blood Gas Study; and CM-2907, Report of Ventilatory Study.

The Department of Labor seeks the approval of this information in order to carry out its responsibility to determine eligibility for black lung benefits.

Ira L. Mills,
Departmental Clearance Officer.

[FR Doc. 05-2789 Filed 2-11-05; 8:45 am]

BILLING CODE 4510-23-P